ENVIRONMENTAL PROTECTION AGENCY

[ER-FRL-6682-9]

Environmental Impacts Statements; Notice of Availability

Responsible Agency: Office of Federal Activities, General Information (202) 564-7167 or http://www.epa.gov/compliance/nepa/.

Weekly receipt of Environmental Impact Statements Filed 1/1/2007 through 1/5/2007 pursuant to 40 CFR 1506.9.

EIS No. 20070000, Final EIS, AFS, ID, Clearwater National Forest, Proposes to Approve Plans-of-Operation for Small-Scale Suction Dredging in Lolo Creek and Moose Creek, Clearwater National Forest, North Fork Ranger District, Clearwater and Idaho Counties, ID, Wait Period Ends: 2/12/2007, Contact: Vern Bretz, 208-476-8322.

EIS No. 20070001, Draft EIS, AFS, CA, Turntable Bay Marina Master Development Plan, To Build and Operate a Resort Marina, Special-Use-Permit, Shasta-Trinity National Forest, Shasta Lake at Turntable Bay, Shasta and Trinity Counties, CA, Comment Period Ends: 2/26/2007, Contact: R. Phipps, 530-226-2421.

EIS No. 20070002, Final EIS, FHW, MN, I-94/TH-10 Interregional Connection from St. Cloud to Becker Transportation Improvements, Funding and U.S. Army COE Section 404 Permit, Sherurne, Stearns, and Wright Counties, MN, Wait Period Ends: 2/12/2007, Contact: Cheryl Martin, 651-291-6120.

EIS No. 20070003, Draft EIS, AFS, AK, Tongass Land and Resource Management Plan, Plan Amendment, Implementation, Tongass National Forest, AK, Comment Period Ends: 4/10/2007, Contact: Lee Kramer, 907-586-8811, Ext 225.

EIS No. 20070004, Final EIS, NOA, AK, Alaska Groundfish Harvest Specifications Project, Establish Harvest Strategy for the Bering Sea and Aleutian Islands (BSAI) and Gulf of Alaska (GOA) Groundfish Fisheries, AK, Wait Period Ends: 2/12/2007, Contact: Ben Muse, 907-586-7234.

EIS No. 20070005, Final EIS, IBR, AZ, Welton-Mohawk Title Transfer Project, Transfer of the Facilities, Works, and Lands of the Welton Mohawk Division of the Gila Project, Welton-Mohawk Irrigation and Drainage District, Yuma County, AZ, Wait Period Ends: 2/12/2007, Contact: Renee Kolvet, 702-293-8443.

EIS No. 20070006, Draft Supplement, DOE, PA, Gilberton Coal-to-Clean Fuels and Power Project, Construction and Operation a New Demonstration Plant, Updated Information to Correct Information regarding Carbon Dioxide (CO2) Emissions, Schuylkill County, PA, Comment Period Ends: 2/27/2007. Contact: Janice L. Bell, 1-866-576-8240.

Amended Notices

EIS No. 20060406, Draft EIS, BLM, AK, Bay Resource Management Plan, Implementation, Located within the Bristol Bay and Goodnews Bay Areas, AK, Comment Period Ends: 2/5/2007. Contact: Mark Fullmer, 907-267-1246.

Revision of FR Notice Published 10/13/2006: Extending Comment Period from 1/11/2007 to 2/5/2007.

Dated: January 9, 2007.
Robert W. Hargrove,
Director, NEPA Compliance Division, Office of Federal Activities.

[FR Doc. E7-347 Filed 1-11-07; 8:45 am]

BILLING CODE 6560-50-P